SOCIAL SECURITY ADMINISTRATION

20 CFR Parts 404 and 416

[Docket No. SSA-2006-0149]

RIN 0960-AF58

Revised Medical Criteria for Evaluating Respiratory System Disorders

Correction

In rule document 2016-13275, appearing on pages 37138-37153, in the issue of Thursday, June 9, 2016, make the following correction:

PART 404—FEDERAL OLD AGE, SURVIVORS AND DISABILITY INSURANCE (1950) [CORRECTED]

On page 37147, in the Table titled “TABLE II—FVC CRITERIA FOR 3.02B”, the column headings are corrected to read as set forth below:

Height without shoes (centimeters) < means less than | Height without shoes (inches) < means less than | Table II-A: Age 18 to attainment of age 20: Females FVC less than or equal to (L, BTPS) | Table II-A: Age 18 to attainment of age 20: Males FVC less than or equal to (L, BTPS) | Table II-B: Age 20 or older: Females FVC less than or equal to (L, BTPS) | Table II-B: Age 20 or older: Males FVC less than or equal to (L, BTPS)

[FR Doc. C1-2016-13275 Filed 9-16-16; 8:45 am]

BILLING CODE 1505-01-D